SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes extensions (no change) of existing OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Help America Vote Act—0960-0706. H.R. 3295, the Help America Vote Act of 2002, mandates that States verify the identities of newly registered voters. When newly registered voters do not have drivers' licenses or State-issued ID cards, they must supply the last four digits of their Social Security Numbers to their local State election agencies for verification. The election agencies forward this information to their State Motor Vehicle Administration (MVA) that inputs the data into the American Association of MVAs, a central consolidation system that routes the voter data to SSA's Help America Vote Verification (HAVV) system. Once SSA's HAVV system has confirmed the identity of the voter, the information will be returned along the same route (in reverse) until it reaches the State election agency. The official respondents for this collection are the State MVAs.

Type of Request: Extension of an OMB-approved information collection.

Number of Respondents: 2,352,204.

Frequency of Response: 1.

Average Burden per Response: 2 minutes.

Estimated Annual Burden: 78,407 hours.

2. National Direct Deposit Initiative—31 CFR 210—0960-0711. Many SSA benefits recipients choose to receive their payments via the Direct Deposit Program, in which SSA transfers funds directly to recipients' accounts at a financial institution (FI). However, many Title II payment recipients still receive their payments through traditional paper checks. In an effort to encourage these beneficiaries to change from paper checks to the Direct Deposit Program, SSA is collaborating with the Department of the Treasury and several FIs on a National Direct Deposit Initiative. In this program, SSA will work with FIs to determine which of the target Title II beneficiaries have accounts at the participating banks. The banks will then send forms to these beneficiaries encouraging them to enroll in the Direct Deposit Program. The respondents are the participating FIs and Title II beneficiaries currently receiving their payments via check.

Type of Request: Extension of an OMB-approved information collection.

Type of respondent | Information collection requirement | Number of respondents | Frequency of response | Average burden response (minutes) | Estimated annual burden (hours) | Cost requirement | Estimated cost burden per respondent | Total annual cost burden
Title II Payment Recipients | Direct Deposit Enrollment Form | 100,000 | 1 | 2 | 3,333 | N/A | N/A | N/A
Financial Institutions (banks) | Data screening/matching activities; SSA's data management requirements | 10 | 1 | 240 | 40 | Printing/mailing of 100,000 enrollment forms | $1,039 | $10,390
Totals |  | 100,010 |  |  | 3,373 |  |  | 10,390

Dated: September 26, 2008.
Elizabeth A. Davidson,
Reports Clearance Officer, Social Security Administration.

[FR Doc. E8-23168 Filed 10-1-08; 8:45 am]

BILLING CODE 4191-02-P